ENVIRONMENTAL PROTECTION AGENCY

[EPA-HQ-OPP-2009-1017; FRL-8880-8]

Foremost 4809-ES Insect-O-Fog; Amended Cancellation Order

AGENCY: Environmental Protection Agency (EPA).

ACTION: Notice.

SUMMARY: This notice announces the U.S. Environmental Protection Agency's (EPA or the Agency) issuance, pursuant to section 6(a)(1) of the Federal Insecticide, Fungicide, and Rodenticide Act (FIFRA), of an amended cancellation order for the pesticide product Foremost 4809-ES Insect-O-Fog, a pesticide product containing Piperonyl Butoxide and Pyrethrins. The registrant of Foremost 4809-ES Insect-O-Fog—Delta Foremost Chemical Corp.—has requested an extension of the May 11, 2011 deadline after which the original cancellation prohibited the registrant of Foremost 4809-ES Insect-O-Fog from selling or distributing that product except for export or disposal. Under the provisions of this amended cancellation order as specified below, sale or distribution of existing stocks of Foremost 4809-ES Insect-O-Fog by the registrant is extended and is now permitted through May 11, 2013 (a 2-year extension of the May 11, 2011 deadline set forth in the original cancellation order).

DATES: This amended cancellation order is effective as of the date of signature.

FOR FURTHER INFORMATION CONTACT: Moana Appleyard, Pesticide Re-evaluation Division (7508P), Office of Pesticide Programs, Environmental Protection Agency, 1200 Pennsylvania Ave., NW., Washington, DC 20460-0001; telephone number: (703) 308-8175; fax number: (703) 308-8090; e-mail address: appleyard.moana@epa.gov.

SUPPLEMENTARY INFORMATION:

I. General Information

A. Does this action apply to me?

The Agency included in the original notice a list of those who may be potentially affected by this action. If you have questions regarding the applicability of this action to a particular entity, consult the person listed under FOR FURTHER INFORMATION CONTACT.

B. How can I get copies of this document and other related information?

EPA has established a docket for this action under docket identification (ID) number EPA-HQ-OPP-2009-1017. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

In the Federal Register of May 11, 2010 (75 FR 26227) (FRL-8822-4), EPA announced the Agency's final order for the cancellations, voluntarily requested by the registrants and accepted by the Agency, of the products listed in Table 1 of that Federal Register Notice, pursuant to section 6(f)(1) of FIFRA. Foremost 4809-ES Insect-O-Fog (EPA Registration Number 001203-00011) was listed in Table 1 of that Federal Register Notice. That cancellation order followed a February 3, 2010 (75 FR 5644) (FRL-8807-6) Federal Register Notice of Receipt of Requests from the registrants listed in Table 2 of the May 11, 2010 Federal Register Notice to voluntarily cancel product registrations. The registrant of Foremost 4809-ES Insect-O-Fog was listed in Table 2 of the May 11, 2010 Notice. In the February 3, 2010 Notice, EPA indicated that it would issue an order implementing the cancellations unless the Agency received substantive comments within a 30-day comment period that would merit its further review of those requests or unless the registrants withdrew their requests. The Agency received comments on the February 3, 2010 Notice, but none merited EPA's further review of the requests. None of the registrants withdrew their requests. Accordingly, EPA issued in the May 11, 2010 Notice a cancellation order granting the requested cancellations, and providing that any distribution, sale, or use of the products subject to that cancellation order was permitted only in accordance with the existing stocks provisions of that order. The existing stocks provisions of the May 11, 2010 cancellation order provided as follows:

The registrants may continue to sell and distribute existing stocks of products listed in Table 1 until May 11, 2011, which is 1 year after the publication of the Cancellation Order in the Federal Register. Thereafter, the registrants are prohibited from selling or distributing products listed in Table 1, except for export in accordance with section 17 of FIFRA, or proper disposal. Persons other than the registrant may sell, distribute, or use existing stocks of products listed in Table 1 until existing stocks are exhausted, provided that such sale, distribution, or use is consistent with the terms of the previously approved labeling on, or that accompanied, the canceled products.

75 FR 26227, 26255 (May 11, 2010)

Delta Foremost Chemical Corp. has requested an extension of the May 11, 2011 deadline after which the original cancellation prohibited the registrant of Foremost 4809-ES Insect-O-Fog from selling or distributing that product except for export or disposal. When EPA issued the original cancellation order on May 11, 2010, the Agency anticipated that 1 year would be enough time to allow all of the registrant's existing stocks of Foremost 4809-ES Insect-O-Fog to be sold and enter the channels of trade. However, because of an unforeseen drop in demand due to the general economic downturn, the registrant was unable to sell all of its existing stocks of that pesticide product by May 11, 2011. This pesticide product was canceled due to a voluntary request for cancellation by the registrant. There is no significant risk concern regarding Foremost 4809-ES Insect-O-Fog. Therefore, EPA believes that a 2-year extension of the May 11, 2011 deadline after which Delta Foremost Chemical Corp. is prohibited from selling or distributing its existing stocks of Foremost 4809-ES Insect-O-Fog—i.e., through May 11, 2013—is consistent with the purposes of FIFRA.

III. What action is the agency taking?

This amended cancellation order allows the registrant, Delta Foremost Chemical Corporation, to sell or distribute existing stocks of EPA Registration Number 001203-00011 through May 11, 2013. All provisions of the May 11, 2010 cancellation order that are not in conflict with today's order remain in effect. This amended cancellation order is effective as of the date of signature.

IV. What is the agency's authority for taking this action?

EPA is taking this action pursuant to section 6(a)(1) of FIFRA.

V. Amended Cancellation Order

Pursuant to section 6 of FIFRA, EPA hereby issues an amended cancellation order for the registration of Foremost 4809-ES Insect-O-Fog (EPA Registration Number 001203-00011) that was canceled by voluntary request on May 11, 2010. Any distribution, sale, or use of this product in a manner inconsistent with this order, including the provisions below regarding the disposition of existing stocks, will be considered a violation of section 12(a)(2)(K) and/or 12(a)(1)(A) of FIFRA. This order will remain in effect unless and until it is amended.

VI. Provisions for Existing Stocks

For purposes of this order, the term “existing stocks” is defined, pursuant to EPA's existing stocks policy that published in the Federal Register of June 26, 1991 (56 FR 29362) (FRL-3846-4) as those stocks of registered pesticide products which are currently in the United States and which were packaged, labeled, and released for shipment prior to the effective date of the original cancellation order (i.e., May 11, 2010). Pursuant to section 6(a)(1) of FIFRA, this cancellation order includes the following existing stocks provisions.

1. Distribution or sale by the registrant of existing stocks of Foremost 4809-ES Insect-O-Fog (EPA Registration Number 001203-00011) is permitted through May 11, 2013.

2. All provisions of the May 11, 2010 original cancellation order that are not in conflict with today's amended cancellation order, including all provisions relating to sale, distribution, and use of existing stocks of Foremost 4809-ES Insect-O-Fog by persons other than the registrant, are unaffected by this amended order and remain in effect.

List of Subjects

Environmental protection, Pesticides and pests.

Dated: July 14, 2011.
Richard P. Keigwin, Jr.,
Director, Pesticide Re-evaluation Division, Office of Pesticide Programs.

[FR Doc. 2011-18996 Filed 7-26-11; 8:45 am]

BILLING CODE 6560-50-P